ENVIRONMENTAL PROTECTION AGENCY

40 CFR Part 52

[IL222-1b; FRL-7666-2]

Approval and Promulgation of Implementation Plans; Illinois

AGENCY: Environmental Protection Agency (EPA).

ACTION: Proposed rule.

SUMMARY: We are proposing to approve a revision to the Illinois State Implementation Plan (SIP) for the Louis Berkman Company, doing business as the Swenson Spreader Company (Swenson). The Illinois Environmental Protection Agency requested on September 19, 2003, that EPA approve an adjusted standard for the volatile organic material content limit applicable to the painting operations at Swenson's plant located in Lindenwood, Ogle County, Illinois.

In the rules section of this Federal Register, EPA is approving the SIP revision as a direct final rule without prior proposal, because EPA views this as a noncontroversial revision amendment and anticipates no adverse comments. A detailed rationale for the approval is set forth in the direct final rule. If EPA receives no adverse comments in response to this proposed rule, EPA will take no further action on this proposed rule. If EPA receives adverse comments, the direct final rule will be withdrawn and all public comments received will be addressed in a subsequent final rule based on this proposed rule. EPA will not institute a second comment period on this action. Any parties interested in commenting on this action should do so at this time.

DATES: Written comments must be received on or before June 28, 2004.

Comments may also be submitted electronically or through hand delivery/courier, please follow the detailed instructions described in the Addresses Section and Part(I)(B) of the Supplementary Information section of the related direct final rule which is published in the Rules section of this Federal Register.

ADDRESSES: Written comments should be sent to: J. Elmer Bortzer, Chief, Criteria Pollutant Section, Air Programs Branch, United States Environmental Protection Agency, Mailcode AR-18J, 77 West Jackson Boulevard, Chicago, Illinois 60604. bortzer.jay@epa.gov.

FOR FURTHER INFORMATION CONTACT: Christos Panos, Environmental Engineer, Criteria Pollutant Section, Air Programs Branch, United States Environmental Protection Agency, Mailcode AR-18J, 77 West Jackson Boulevard, Chicago, Illinois 60604, (312) 353-8328. panos.christos@epa.gov.

SUPPLEMENTARY INFORMATION: For additional information, see the Direct Final notice which is located in the Rules section of this Federal Register. Copies of the request and the EPA's analysis are available for inspection at the above address. (Please contact Christos Panos at (312) 353-8328 before visiting the Region 5 office.)

Dated: May 7, 2004.
Bharat Mathur,
Acting Regional Administrator, Region 5.

[FR Doc. 04-11926 Filed 5-26-04; 8:45 am]

BILLING CODE 6560-50-P